DEPARTMENT OF ENERGY

Federal Energy Regulatory Commission; Notice of Meeting; Sunshine Act

January 23, 2002.

The following notice of meeting is published pursuant to section 3(a) of the Government in the Sunshine Act (Pub. L. No. 94-409), 5 U.S.C. 552b:

Agency Holding Meeting: Federal Energy Regulatory Commission.

Date and Time: January 30, 2002, (Two Hours Following Regular Commission Meeting).

Place: Room 2C, 888 First Street, NE., Washington, DC 20426.

Status: Closed.

Matters to be Considered: G-27 Docket No. RP02-99-000, Shell Offshore Inc. v. Transcontinental Gas Pipe Line Corporation, Williams Gas Processing—Gulf Coast Company, L.P. and Williams Field Services Company.

G-33 Docket No. RP02-144-000, Superior Natural Gas Corporation and Walter Oil & Gas Corporation v. Williams Gas Processing—Gulf Coast Company, L.P., Williams Field Services Company and Williams Gulf Coast Gathering Company, L.L.C.

E-47 Docket No. EL01-105-000, New Power Company v. PJM Interconnection, LLC.

C-9 Docket No. CP01-46-000, National Fuel Gas Supply Corporation.

G-34 The possible initiation of investigation.

CONTACT PERSON FOR MORE INFORMATION: Linwood A. Watson, Jr., Acting Secretary, Telephone (202) 208-0400.

Linwood A. Watson, Jr.,
Acting Secretary.

[FR Doc. 02-2066 Filed 1-23-02; 4:24 pm]

BILLING CODE 6717-01-P